DEPARTMENT OF THE INTERIOR

National Park Service

[N6379; NPS-WASO-NAGPRA-NPS0040666; PPWOCRADN0-PCU00RP14.R50000]

Notice of Intended Repatriation: Historic Indian Agency House Association, Inc., Portage, WI

AGENCY: National Park Service, Interior.

ACTION: Notice.

SUMMARY: In accordance with the Native American Graves Protection and Repatriation Act (NAGPRA), the Historic Indian Agency House Association, Inc. intends to repatriate a certain cultural item that meets the definition of a sacred object and that has a cultural affiliation with the Indian Tribes or Native Hawaiian organizations in this notice.

DATES: Repatriation of the cultural item in this notice may occur on or after September 2, 2025.

ADDRESSES: Send additional, written requests for repatriation of the cultural items in this notice to Adam Novey, Historic Indian Agency House Association, Inc., 1490 Agency House Road, Portage, WI 53901, email historicindianagencyhouse@gmail.com.

SUPPLEMENTARY INFORMATION: This notice is published as part of the National Park Service's administrative responsibilities under NAGPRA. The determinations in this notice are the sole responsibility of the Historic Indian Agency House Association, Inc., and additional information on the determinations in this notice, including the results of consultation, can be found in the summary or related records. The National Park Service is not responsible for the determinations in this notice.

Abstract of Information Available

A total of one cultural item has been requested for repatriation. The one sacred object is a ceremonial leather headband (numbered M832 in museum records) with carved abalone shell “hooks” affixed to it. The object has been determined as having a geographic connection to nations which are indigenous to northwest California. It was gifted to the Historic Indian Agency House Association, Inc., in October 2024, in accordance with the dissolution of its predecessor (the National Society of Colonial Dames of America—State of Wisconsin). Its original acquisition by the Historic Indian Agency House Association, Inc.'s predecessor appears to have occurred prior to 1982 from an unknown source. No cultural affiliation is identified in museum records, and no known potentially hazardous substances have been used to treat this cultural item.

Determinations

The Historic Indian Agency House Association, Inc. has determined that:

• The one sacred object described in this notice is a specific ceremonial object needed by a traditional Native American religious leader for present-day adherents to practice traditional Native American religion, according to the Native American traditional knowledge of a lineal descendant, Indian Tribe, or Native Hawaiian organization.

• There is a connection between the cultural item described in this notice and the Wiyot Tribe, California.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after September 2, 2025. If competing requests for repatriation are received, the Historic Indian Agency House Association, Inc., must determine the most appropriate requestor prior to repatriation. Requests for joint repatriation of the cultural item are considered a single request and not competing requests. The Historic Indian Agency House Association, Inc., is responsible for sending a copy of this notice to the Indian Tribes and Native Hawaiian organizations identified in this notice and to any other consulting parties.

(Authority: Native American Graves Protection and Repatriation Act, 25 U.S.C. 3004 and the implementing regulations, 43 CFR 10.9.)

Dated: July 15, 2025.
Mariah Soriano,
Acting Manager, National NAGPRA Program.

[FR Doc. 2025-14532 Filed 7-31-25; 8:45 am]

BILLING CODE 4312-52-P